DEPARTMENT OF VETERANS AFFAIRS

38 CFR Part 17

RIN 2900-AO85

VA Dental Insurance Program—Federalism

AGENCY: Department of Veterans Affairs.

ACTION: Direct final rule; confirmation of effective date.

SUMMARY: The Department of Veterans Affairs (VA) published a direct final rule in the Federal Register on October 22, 2013, amending its regulations related to the VA Dental Insurance Program (VADIP), a pilot program to offer premium-based dental insurance to enrolled veterans and certain survivors and dependents of veterans. Specifically, this rule adds language to clarify the limited preemptive effect of certain criteria in the VADIP regulations. VA received no comments concerning this rule or its companion substantially identical proposed rule published in the Federal Register on October 23, 2013. This document confirms that the direct final rule became effective on December 23, 2013. In a companion document in this issue of the Federal Register, we are withdrawing as unnecessary the proposed rule.

DATES: Effective Date: The effective date of December 23, 2013, for the final rule published October 22, 2013, 78 FR 62441, is confirmed.

FOR FURTHER INFORMATION CONTACT: Kristin J. Cunningham, Director, Business Policy, Chief Business Office (10NB), Veterans Health Administration, Department of Veterans Affairs, 810 Vermont Ave. NW., Washington, DC 20420; (202) 461-1599. (This is not a toll-free number.)

SUPPLEMENTARY INFORMATION: In a direct final rule published in the Federal Register on October 22, 2013, 78 FR 62441, VA amended 38 CFR 17.169 to add language to clarify the limited preemptive effect of certain criteria in the VA Dental Insurance Program (VADIP), a pilot program to offer premium-based dental insurance to enrolled veterans and certain survivors and dependents of veterans. VA published a companion substantially identical proposed rule at 78 FR 63143 on October 23, 2013, to serve as a proposal for the provisions in the direct final rule in case adverse comments were received. The direct final rule and proposed rule each provided a 30-day comment period that ended on November 21 and November 22, 2013, respectively. No comments were received.

Under the direct final rule procedures that were described in 78 FR 62441 and 78 FR 63143, the direct final rule became effective on December 23, 2013, because no comments were received within the comment periods. In a companion document in this issue of the Federal Register, VA is withdrawing the proposed rulemaking, RIN 2900-AO86, published at 78 FR 63143, as unnecessary.

Signing Authority

The Secretary of Veterans Affairs, or designee, approved this document and authorized the undersigned to sign and submit the document to the Office of the Federal Register for publication electronically as an official document of the Department of Veterans Affairs. Jose D. Riojas, Chief of Staff, Department of Veterans Affairs, approved this document on March 11, 2014, for publication.

Dated: March 13, 2014.
William F. Russo,
Deputy Director, Office of Regulation Policy and Management, Office of the General Counsel, Department of Veterans Affairs.

[FR Doc. 2014-05911 Filed 3-19-14; 8:45 am]

BILLING CODE 8320-01-P